DEPARTMENT OF HOMELAND SECURITY

Coast Guard

33 CFR Part 100

[Docket No. USCG-2017-0909]

Special Local Regulations; Marine Events Within the Fifth Coast Guard District

AGENCY: Coast Guard, DHS.

ACTION: Notice of enforcement of regulation.

SUMMARY: The Coast Guard will enforce special local regulations for the Swim the Loop and Motts Channel Sprint on October 7, 2017, to provide for the safety of life on navigable waterways during this event. Our regulation for marine events within the Fifth Coast Guard District identifies the regulated area for this event in Wrightsville Beach, NC. During the enforcement periods, the operator of any vessel in the regulated area must comply with directions from the Patrol Commander or any Official Patrol displaying a Coast Guard ensign.

DATES: The regulations in 33 CFR 100.501 will be enforced for the Swim the Loop and Motts Channel Sprint regulated area listed in item d.1 in the Table to § 100.501 from 9:30 a.m. to noon on October 7, 2017.

FOR FURTHER INFORMATION CONTACT: If you have questions about this notice of enforcement, contact Petty Officer Matthew Tyson, Waterways Management Division, U.S. Coast Guard Sector North Carolina, Wilmington, NC; telephone: 910-772-2221, email: Matthew.I.Tyson@uscg.mil.

SUPPLEMENTARY INFORMATION: The Coast Guard will enforce special local regulations in 33 CFR 100.501 for the Swim the Loop and Motts Channel Sprint regulated area from 9:30 a.m. to noon on October 7, 2017. This action is being taken to provide for the safety of life on navigable waterways during this event. Our regulation for marine events within the Fifth Coast Guard District, § 100.501, specifies the location of the regulated area for the Swim the Loop and Motts Channel Sprint which encompasses portions of Motts Channel, Banks Channel, Lee's Cut, and the Atlantic Intracoastal Waterway. During the enforcement periods, as reflected in § 100.100(c), if you are the operator of a vessel in the regulated area you must comply with directions from the Patrol Commander or any Official Patrol displaying a Coast Guard ensign.

This notice of enforcement is issued under authority of § 100.100(f) and 5 U.S.C. 552(a). In addition to this notice of enforcement in the Federal Register, the Coast Guard plans to provide notification of this enforcement period via a Broadcast Notice to Mariners.

Dated: October 2, 2017.
Bion B. Stewart,
Captain, U.S. Coast Guard, Captain of the Port, North Carolina.

[FR Doc. 2017-21570 Filed 10-5-17; 8:45 am]

BILLING CODE 9110-04-P